DEPARTMENT OF AGRICULTURE

Animal and Plant Health Inspection Service

[Docket No. APHIS-2017-0094]

Notice of Request for Revision to and Extension of Approval of an Information Collection; Foot-And-Mouth Disease: Prohibition on Importation of Farm Equipment

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the importation of used farm equipment into the United States from regions affected with foot-and-mouth disease.

DATES: We will consider all comments that we receive on or before February 2, 2018.

ADDRESSES: You may submit comments by either of the following methods:

• Federal eRulemaking Portal: Go to http://www.regulations.gov/#!docketDetail;D=APHIS-2017-0094.

• Postal Mail/Commercial Delivery: Send your comment to Docket No. APHIS-2017-0094, Regulatory Analysis and Development, PPD, APHIS, Station 3A-03.8, 4700 River Road, Unit 118, Riverdale, MD 20737-1238.

Supporting documents and any comments we receive on this docket may be viewed at http://www.regulations.gov/#!docketDetail;D=APHIS-2017-0094 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on foot-and-mouth disease and the prohibition on importation of farm equipment, contact Dr. Tracye Butler, Senior Staff Veterinarian, National Import Export Services, VS, APHIS, 4700 River Road, Unit 40, Riverdale, MD 20737; (301) 851-3300. For copies of more detailed information on the information collection, contact Ms. Kimberly Hardy, APHIS' Information Collection Coordinator, at (301) 851-2483.

SUPPLEMENTARY INFORMATION:

Title: Foot-And-Mouth Disease: Prohibition on Importation of Farm Equipment.

OMB Control Number: 0579-0195.

Type of Request: Revision to and extension of approval of an information collection.

Abstract: Under the Animal Health Protection Act (7 U.S.C. 8301 et seq.), the Animal and Plant Health Inspection Service (APHIS) of the U.S. Department of Agriculture is authorized, among other things, to prohibit or restrict the importation of animals, animal products, and other articles into the United States to prevent the introduction of animal diseases and pests. The regulations for the importation of animals, animal products, and other articles into the United States are contained in 9 CFR parts 92 through 98.

In part 94, § 94.1(c) prohibits the importation of used farm equipment into the United States from regions where APHIS considers foot-and-mouth disease (FMD) or rinderpest to exist unless the equipment has been steam-cleaned prior to export to the United States so that it is free of exposed dirt and other particulate matter. Such equipment must be accompanied by an original certificate, signed by an authorized official of the national animal health service of the exporting region, stating that the farm equipment after its last use and prior to export, was steam-cleaned free of all exposed dirt and other particulate matter.

We are asking the Office of Management and Budget (OMB) to approve our use of this information collection activity, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of Burden: The public burden for this collection of information is estimated to average 0.2 hours per response.

Respondents: Exporters of farm equipment and foreign animal health authorities from regions where FMD or rinderpest exist.

Estimated Annual Number of Respondents: 71.

Estimated Annual Number of Responses per Respondent: 105.

Estimated Annual Number of Responses: 7,458.

Estimated Total Annual Burden on Respondents: 1,492 hours. (Due to averaging, the total annual burden hours may not equal the product of the annual number of responses multiplied by the reporting burden per response.)

All responses to this notice will be summarized and included in the request for OMB approval. All comments will also become a matter of public record.

Done in Washington, DC, this 29th day of November 2017.
Kevin Shea,
Administrator, Animal and Plant Health Inspection Service.

[FR Doc. 2017-26058 Filed 12-1-17; 8:45 am]

BILLING CODE 3410-34-P